DEPARTMENT OF COMMERCE

Department of Commerce: National Webinar for Industry on Climate Change Negotiations Under the United Nations Framework Convention on Climate Change (UNFCCC)

AGENCY: International Trade Administration, Department of Commerce.

ACTION: Notice of meeting.

SUMMARY: The U.S. Department of Commerce (DOC) will host a Webinar (online presentations and audio conference) for industry participants on September 22, 2009. Participants will learn from U.S. government officials about the status of current negotiations and hear about key issues for U.S. industry, as well as potential commercial opportunities. The Webinar will also allow private sector stakeholders, particularly industry and trade associations, to advise U.S. officials on the impact a new UNFCCC agreement could have on their respective operations and on associated commercial opportunities.

DATES: September 22, 2009.

ADDRESSES: To participate in the Webinar, please contact Frank Caliva, Office of Energy & Environmental Industries, International Trade Administration, U.S. Department of Commerce, 1401 Constitution Ave., NW., Room 4053, Washington, DC 20230; 202-482-8245; Frank.Caliva@mail.doc.gov.

SUPPLEMENTARY INFORMATION:

Participation

Any private sector participant may register to attend; the number of call-in lines is limited and available on a first-come, first-serve basis. Please contact Frank Caliva, Office of Energy & Environmental Industries, International Trade Administration, U.S. Department of Commerce, at 202-482-8245 or Frank.Caliva@mail.doc.gov to register and receive call-in and log-on instruction.

The United Nations Framework Convention on Climate Change—The UNFCCC was signed in 1992 in Rio de Janeiro, Brazil, and entered into force on March 21, 1994. Currently, 193 states have ratified the Convention, including the United States. The treaty requires national inventories of greenhouse gas emissions from developed countries, and encourages national action to stem greenhouse gas emissions and slow climate change. Developed nations also pledge to share technology and resources with developing nations.

Kyoto Protocol to the United Nations Framework Convention on Climate Change—The Kyoto Protocol was adopted in December 1997, entered into force on February 16, 2005, and has been ratified by 188 countries and the European Community. While the United States signed the document, the U.S. Senate has never ratified the treaty. The Kyoto Protocol sets binding emissions targets for 37 industrialized countries, includes mechanisms for measuring and reporting emissions, and provides for financing and technology assistance to developing countries. The commitment period specified in the Protocol will expire at the end of 2012.

Current UNFCCC Negotiations—Negotiations under the UNFCCC are underway to formulate a successor agreement to the Kyoto Protocol. The discussions have the goal of concluding an agreement in Copenhagen this December. Potential impacts on U.S. industrial competitiveness will be discussed during the upcoming webinar including technology transfer, intellectual property, financing, and related commercial opportunities.

Cheryl McQueen,
Acting Director, Office of Energy and Environmental Industries, U.S. Department of Commerce.

[FR Doc. E9-22586 Filed 9-17-09; 8:45 am]

BILLING CODE 3510-DR-P